DEPARTMENT OF ENERGY

Federal Energy Regulatory Commission

18 CFR Part 35

[Docket No. RM01-12-000]

Remedying Undue Discrimination Through Open Access Transmission Service and Standard Electricity Market Design

December 4, 2002.

AGENCY: Federal Energy Regulatory Commission, DOE.

ACTION: Notice of technical conference agenda.

SUMMARY: Commission staff convened a technical conference on December 6, 2002, to discuss the cyber-security provisions described in section M and Appendix G of the Notice of Proposed Rulemaking issued in this docket on July 31, 2002. See 67 FR 55452 (August 29, 2002). This notice provides further organizational details and the conference agenda.

DATES: The conference took place on December 6, 2002.

ADDRESSES: The conference took place at: Federal Energy Regulatory Commission, 888 First Street, NW., Washington, DC 20426.

FOR FURTHER INFORMATION CONTACT: Sarah McKinley, Office of External Affairs, Federal Energy Regulatory Commission, 888 First Street, NE., Washington, DC 20426, (202) 502-8004.

SUPPLEMENTARY INFORMATION:

Notice of Technical Conference Agenda

1. As announced in the Notice of Technical Conference issued on November 20, 2002, Commission staff will convene a technical conference on December 6, 2002 to discuss and analyze proposed rules for cyber-security. This notice provides further organizational details and the conference agenda.

2. The conference will begin at 9:30 a.m. and will adjourn at about 3 p.m. It is scheduled to take place the Commission's offices, 888 First Street, NE., Washington, DC, in the Commission Meeting Room on the second floor. The agenda is appended to this notice as Attachment A.

3. The conference is open for the public to attend, and registration is not required; however, in-person attendees are asked to notify the Commission of their intent to attend by sending an 3-mail message to conference@ferc.gov.

4. Transcripts of the conference will be immediately available from Ace Reporting Company (202-347-3700 or 1-800-336-6646), for a fee. They will be available for the public on the Commission's FERRIS system two weeks after the conference. Additionally, Capitol Connection offers the opportunity for remote listening and viewing of the conference. It is available for a fee, live over the Internet, via C-Band Satellite. Persons interested in receiving the broadcast, or who need information on making arrangements should contact David Reninger or Julia Morelli at the Capitol Connection (703-993-3100) as soon as possible or visit the Capitol Connection Web site at http://www.capitolconnection.gmu.edu and click on “FERC.”

5. Questions about the conference program should be directed to: Sarah McKinley, Manager of State Outreach, Office of External Affairs, Federal Regulatory Commission, 888 First Street, NE., Washington, DC 20426, (202) 502-8368, sarah.mckinley@ferc.gov.

Linwood A. Watson, Jr.,
Deputy Secretary.

Appendix A

Schedule

9:30 a.m.

Introduction.

Review of FERC's SMD Cyber-Security Proposed Standard, Alison Silverstein.

10 a.m.

Presentation of the North American Electric Reliability Council's (NERC's) Recommended Cyber-Security Standard, Chuck Noble, ISO New England, NERC Critical Infrastructure Protection Advisory Group.

10:30 a.m.

Comments from Public and Panel Discussion.

• Scope of Proposal

• Specific Measures

• Compliance and Timing

• Other

Federal Cyber-Security Panel:

Tom Cable, Critical Infrastructure Protection Board.

Lawrence C. Hale, Office of Information Assurance and Critical Infrastructure Protection, Federal Technology Service, General Services Administration.

Tom Harper, Office of Counter Intelligence, Department of Energy.

Landis D. Kannberg, Pacific Northwest National Laboratory, Department of Energy.

Marianne Swanson, Computer Security Division, National Institute of Standards and Technology.

12 p.m.

Lunch.

1 p.m.

Continuing Discussion and Review of NERC's Recommended Standard.

3 p.m.

Adjourn.

[FR Doc. 02-31144 Filed 12-11-02; 8:45 am]

BILLING CODE 6717-01-M